DEPARTMENT OF TRANSPORTATION

Federal Railroad Administration

Broad Agency Announcement 2005-1, Funds Availability for Demonstration Projects and Technology Advancements Under the Next Generation High-Speed Rail Program

AGENCY: Federal Railroad Administration (FRA), Department of Transportation (DOT).

ACTION: Notice of funds availability: Broad agency announcement (BAA) for research projects and technology advancements under the Next Generation High-Speed Rail Program.

Purpose and Scope

The Federal Railroad Administration (FRA) is soliciting proposal concept papers for various demonstration projects and technology advancements which have the potential to advance the deployment of high-speed rail service in the United States. Emphasis is on technologies which would permit cost-effective upgrading and use of existing infrastructure.

Technologies most likely to help facilitate the deployment of high-speed rail service are those which will (a) bring about cost reductions in constructing and maintaining equipment, track, and facilities; (b) reduce operating costs by providing more efficient operations; (c) improve the reliability of equipment and infrastructure components by reducing failures and/or reducing false failure detections; (d) improve safety by reducing human and technology failures; (e) enhance revenue-generating capability by attracting greater ridership through reducing trip times, upgrading customer service quality, increasing reliability, or improving on-time performance; or (f) enhance the social benefits or environmental aspects of higher speed rail.

Eligible Participants

Any responsible source may submit a proposal concept paper for consideration, including, but not limited to, state or local governments, or organizations of state or local governments, universities or institutions of higher education, hospitals, non-profit organizations, private individuals, corporations, businesses or commercial organizations, except that any business owned in whole or in part by the Federal Government is not eligible. Although businesses owned in whole or in part by the Federal Government are not eligible for funding under the Program, they may contract with eligible participants. Cooperative arrangements (e.g., joint ventures, limited partnerships, teaming arrangements, or collaboration and consortium arrangements) are permitted and encouraged.

Small, Small Disadvantaged (SD), and Service-Disabled Veteran-Owned Business Concerns, and Veteran-Owned (VO) and Woman-Owned (WO), and Historically Underutilized Business Zone (HUBZone) Small Business Concerns, and Historically Black Colleges and Universities (HBCU) and Minority Institutions (MIs) are encouraged to submit proposal concept papers on their own and/or in collaboration with others. However, no portion of this BAA will be set aside or reserved exclusively for these types of organizations.

BAA Time Period

This BAA will be open from the date of posting through December 30, 2005. The FRA will accept proposal concept papers as of the posting date. Unless BAA 2005-1 is superseded or canceled, FRA will continue to accept concept submissions and inquiries through December 30, 2005. Although the BAA is open for an extended period, interested parties would be well advised to submit proposals as early as possible. Reviews will be conducted continuously on receipt of concept papers.

Source for BAA Documents

The BAA 2005-1 package may be downloaded or printed from the following Internet address: http://www.fra.dot.gov/, and then through the choices of Passenger Rail (from upper left home page menu), Financial Assistance (on the drop down menu), Funding for High Speed Rail (center of Financial Assistance page), Rail Demonstration Funding Opportunities, Broad Agency Announcement. The FRA does not intend to make the BAA 2005-1 Package available in paper copy.

Issued in Washington, DC on March 22, 2005.
Mark Yachmetz,
Associate Administrator for Railroad Development.

[FR Doc. 05-6075 Filed 3-28-05; 8:45 am]

BILLING CODE 4910-06-P